NUCLEAR REGULATORY COMMISSION

[NRC-2025-0001]

Sunshine Act Meetings

TIME AND DATE: Week of June 30, 2025.

PLACE: The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

STATUS: Closed.

MATTERS TO BE CONSIDERED:

Week of June 30, 2025

Tuesday, July 1, 2025

3:00 p.m. Internal Management and Personnel Matters (Closed Ex. 2)

CONTACT PERSON FOR MORE INFORMATION: For more information or to verify the status of meetings, contact Monika Coflin at 301-415-5932 or via email at Monika.Coflin@nrc.gov.

The NRC is holding the meetings under the authority of the Government in the Sunshine Act, 5 U.S.C. 552b.

Dated: July 1, 2025.
For the Nuclear Regulatory Commission.
Monika G. Coflin,
Technical Coordinator, Office of the Secretary.

[FR Doc. 2025-12497 Filed 7-1-25; 4:15 pm]

BILLING CODE 7590-01-P